AGENCY FOR INTERNATIONAL DEVELOPMENT

Board for International Food and Agricultural Development; Notice of Meeting

Pursuant to the Federal Advisory Committee Act, notice is hereby given of a public meeting of the Board for International Food and Agricultural Development (BIFAD), Agricultural Growth, Structural Transformation, and the Journey to Self-Reliance: Implications for USAID Programming. The meeting will be held on March 25, 2020 from 9:00 a.m. to 4:00 p.m. EDT in Washington, DC at the National Press Club, Holeman Lounge, 529 14th St. NW, Washington, DC 20045. A public comment period is scheduled from 3:15 to 3:45 p.m., EDT: The meeting will be livestreamed and accessible at http://www.aplu.org/projects-and-initiatives/international-programs/bifad/bifad-meetings.html.

The U.S. Agency for International Development (USAID) is reorienting its strategies, partnership models, and program practices to achieve greater development outcomes and strive toward a future where foreign assistance is no longer necessary. The approach, outlined in the Agency's new Policy Framework, emphasizes the concept of “self-reliance”—defined as the capacity and commitment of a country to plan, finance, and implement solutions to solve its own development challenges in an effective, inclusive, and accountable way. Empowering host country governments and partners to achieve locally sustainable results, helping countries mobilize public and private resources, strengthening local capacities, and accelerating enterprise-driven development are part of a strategy that prioritizes enduring partnerships and fosters stable, resilient, and prosperous countries.

In the food and agricultural sectors, accelerating productivity growth is understood to be a central factor underpinning inclusive development, poverty reduction, and the structural transformation of economies—how underdeveloped and agrarian-based countries shift from subsistence agriculture to a commercially oriented economy with diverse agricultural, manufacturing, and service sectors. Recent evidence shows that growth in the agriculture sector is more effective at reducing poverty than growth in other sectors, especially in low-income countries where USAID works.

The Board for International Food and Agricultural Development (BIFAD), an advisory committee to USAID, will convene a public meeting seeking to better understand the concept of structural transformation, how raising the total productivity of resources in agriculture stimulates this transformation, and how this in turn contributes to countries' progression toward self-reliance. The meeting will hear from experts on some emerging success stories in agricultural and structural transformation, distill lessons and identify knowledge gaps from these experiences, and identify implications of this evidence for USAID's priorities for development and social safety net programming investments for agriculture and food security.

On the basis of testimony, including public comments, shared at the meeting, BIFAD will provide formal findings, conclusions, and recommendations to the Agency on best-bet operational and programmatic investments for catalyzing agricultural productivity and structural transformation.

BIFAD is a seven-member, presidentially appointed advisory board to USAID established in 1975 under Title XII of the Foreign Assistance Act, as amended. The provisions of Title XII concern bringing assets of U.S. universities to bear on development challenges in agriculture and food security, and the BIFAD's role is to help carry out this function.

For questions about registration, please contact Susan Johnson at (202) 478-6023. For questions about BIFAD, please contact Clara Cohen, Designated Federal Officer for BIFAD in the Bureau for Food Security at USAID. Interested persons may write to her in care of the U.S. Agency for International Development, Ronald Reagan Building, Bureau for Food Security, 1300 Pennsylvania Avenue NW, Washington, DC 20523-2110, email her at ccohen@usaid.gov, or telephone her at (202) 712-0119.

Clara Cohen,
Designated Federal Officer.

[FR Doc. 2020-02423 Filed 2-6-20; 8:45 am]

BILLING CODE P